DEPARTMENT OF COMMERCE

International Trade Administration

Announcement of New Members for the Performance Review Board

AGENCY: International Trade Administration, Commerce.

ACTION: Notice.

SUMMARY: Announcement of new members for the Performance Review Board.

FOR FURTHER INFORMATION CONTACT: LaVerne H. Hawkins, Department of Commerce, Office of Human Resources, Room 7412, Washington, DC 20230.

SUPPLEMENTARY INFORMATION: This notice announces new appointments by the Under Secretary for International Trade, Grant Aldonas, of the ITA Performance Review Board. This is a revised list of new members and the appointment of previous board members as listed in the June 8, 2000, Federal Register (65 FR 36411). The appointments are for a period of 2 years. The purpose of the International Trade Administration's Performance Review Board is to review and make recommendations to the Appointing Authority on performance management issues such as appraisals, bonuses, ES-level Increases and Presidential Rank Awards for members of the Senior Executive Service.

The Performance Review Board members are:

Eleanor Roberts Lewis, Chief Counsel for International Trade, Non-ITA Career Member

Stephen Jacobs, Deputy Assistant Secretary for Agreements Compliance, Market Access & Compliance, Career

Linda Moye Cheatham, Chief Financial Officer and Director of Administration, Office of the Deputy Under Secretary, Career

Barbara Tillman, Senior Director, Import Administration, Career

Jonathan C. Menes, Executive Director, Trade Development, Career

Nealton J. Burnham, Deputy Assistant Secretary for Export Promotion Services, U.S. and Foreign Commercial Service, Non-Career

Kevin W. Murphy, Deputy Assistant Secretary for Basic Industries, Trade Development, Non-Career

LaVerne H. Hawkins, Office of Human Resources Management, 202-482-2537, Executive Secretary

Dated: May 29, 2002.
Darlene Haywood,
Acting Human Resources Manager, ITA.

[FR Doc. 02-14372 Filed 6-6-02; 8:45 am]

BILLING CODE 3510-25-P